DEPARTMENT OF COMMERCE

Bureau of Export Administration

Transportation and Related Equipment Technical Advisory Committee; Notice of Open Meeting

The Transportation and Related Equipment Technical Advisory Committee will meet on October 25, 2000, 9 a.m., at the Herbert C. Hoover Building, Room 3884, 14th Street between Pennsylvania & Constitution Avenues, NW., Washington, DC. The Committee advises the Office of the Assistant Secretary for Export Administration with respect to technical question that affect the level of export controls applicable to transportation and related equipment or technology.

Agenda

1. Opening remarks by the Chairman.

2. Consultation with Committee on renewal of charter.

3. Review of pending regulatory revisions.

4. Update on missile technology issues.

5. Update on Wassenaar Arrangement negotiations.

6. Presentation of papers or comments by the public.

7. Review of status of actions items from previous meeting.

8. Member assignments for Wassenaar Arrangement proposals.

The meeting will be open to the public and a limited number of seats will be available. Reservations are not accepted. To the extent time permits, members of the public may present oral statements to the Committee. Written statements may be submitted at any time before or after the meeting. However, to facilitate distribution of public presentation materials to Committee members, the Committee suggests that you forward your public presentation materials two weeks prior to the meeting to the following address: Ms. Lee Ann Carpenter, OSIES/EA/BXA Ms: 3876, U.S. Department of Commerce, 14th & Constitution Avenue, NW., Washington, DC 20230.

For more information or copies of the minutes, please call Lee Ann Carpenter on (202) 482-2583.

Dated: October 4, 2000.
Lee Ann Carpenter,
Committee Liaison Officer.

[FR Doc. 00-25937 Filed 10-6-00; 8:45 am]

BILLING CODE 3510-JT-M